DEPARTMENT OF ENERGY

Federal Energy Regulatory Commission

Notice of Transfer of License and Soliciting Comments, Protests, and Motions To Intervene

April 11, 2001.

Take notice that the following hydroelectric application has been filed with the Commission and is available for public inspection:

a. Application Type: Transfer of License.

b. Project No.: 5062-037.

c. Date Filed: March 26, 2001.

d. Applicants: Quinebaug Partnership and Quinebaug Associates, LLC.

e. Name and Location of Project: The Quinebaug-Five Mile Pond Hydroelectric Project is located on the Quinebaug and Five Mile Rivers in Windham County, Connecticut. The project does not occupy federal or tribal land.

f. Filed Pursuant to: Federal Power Act, 16 U.S.C. 791(a)-825(r).

g. Applicant Contacts: Mr. William K. Allin, Water Street Ext, Lancaster, NH 03584 and Mr. Gregory S. Cloutier, 80 A Elm Street, Lancaster, NH 03584, (802) 892-1260.

h. FERC Contact: James Hunter, (202) 219-2839.

i. Deadline for filing comments, protests, and motions to intervene: May 18, 2001.

All documents (original and eight copies) should be filed with: David P. Boergers, Secretary, Federal Energy Regulatory Commission, 888 First Street, NE, Washington DC 20426. Comments, protests, and motions to intervene may be filed electronically via the internet in lieu of paper. See, 18 CFR 385.2001(a)(1)(iii) and the instructions on the Commission's web site at http://www.ferc.fed.us/efi/doorbell.htm.

Please include the project number (P-5062-037) on any comments or motions filed.

j. Description of Proposal: The applicants request after-the-fact approval of a transfer of the license for Project No. 5062, to reflect a January 1996 change in the licensee's organizational structure from a general partnership to a limited liability company. The applicants also state that the former members of Quinebaug Associates, LLC sold the shares of the LLC to the current members on December 22, 2000.

k. Locations of the application: A copy of the application is available for inspection and reproduction at the Commission's Public Reference Room, located at 888 First Street, NE, Room 2A, Washington, DC 20426, or by calling (202) 208-1371. The application may be viewed on the web at www.ferc.fed.us/online/rims.htm (Call (202) 208-2222 for assistance). A copy is also available for inspection and reproduction at the addresses in item g above.

l. Individuals desiring to be included on the Commission's mailing list should so indicate by writing to the Secretary of the Commission.

Comments, Protests, or Motions to Intervene—Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

Filing and Service of Responsive Documents—Any filings must bear in all capital letters the title “COMMENTS”, “PROTEST”, or “MOTION TO INTERVENE”, as applicable, and the Project Number of the particular application to which the filing refers. An additional copy must be sent to the Director, Division of Hydropower Administration and Compliance, Federal Energy Regulatory Commission, at the above-mentioned address. A copy of any motion to intervene must also be served upon each representative of the Applicant specified in the particular application.

Agency Comments—Federal, state, and local agencies are invited to file comments on the described application. A copy of the application may be obtained by agencies directly from the Applicant. If an agency does not file comments within the time specified for ciling comments, it will be presumed to have no commments. One copy of an agency's comments must also be sent to the Applicant's representatives.

David P. Boergers,
Secretary.

[FR Doc. 01-9421 Filed 4-16-01; 8:45 am]

BILLING CODE 6717-01-M